DEPARTMENT OF AGRICULTURE

Rural Housing Service

Rural Business-Cooperative Service

Rural Utilities Service

[Docket No. RHS-24-NONE-0038]

Notice of Request for an Extension of a Currently Approved Information Collection

AGENCY: Rural Housing Service, Rural Business-Cooperative Service, and Rural Utilities service, U.S. Department of Agriculture (USDA).

ACTION: Notice; request for comments.

SUMMARY: In accordance with the Paperwork Reduction Act of 1995, this notice announces the intention of the Rural Housing Service, Rural Business-Cooperative Service, and the Rural Utilities Service, agencies of the Rural Development (RD) mission area within the U.S. Department of Agriculture, hereinafter collectively referred to as the Agency(ies) to request Office of Management and Budget's (OMB) approval for a an extension of a currently approved information collection in support of compliance with Civil Rights laws.

DATES: Comments on this notice must be received by January 14, 2025.

ADDRESSES: Comments may be submitted electronically by the Federal eRulemaking Portal, www.regulations.gov. Additional information about RD and its programs is available at www.rd.usda.gov.

FOR FURTHER INFORMATION CONTACT: Pamela Bennett, RD Innovation Center—Regulations Management Division, USDA, 1400 Independence Avenue SW, Stop 1522, South Building, Washington, DC 20250-1522. Telephone: (202) 720-9639. Email: pamela.bennett@usda.gov.

SUPPLEMENTARY INFORMATION: The OMB regulation (5 CFR part 1320) implementing provisions of the Paperwork Reduction Act of 1995 (Pub. L. 104-13) requires that interested members of the public and affected agencies have an opportunity to comment on information collection and recordkeeping activities (see 5 CFR 1320.8(d)). This notice identifies an information collection that the Agency is submitting to OMB for revision of an existing collection.

Comments are invited on: (a) Whether the proposed collection of information is necessary for the proper performance of the functions of the Agency, including whether the information will have practical utility; (b) The accuracy of the Agency's estimate of the burden of the proposed collection of information including the validity of the methodology and assumptions used; (c) Ways to enhance the quality, utility and clarity of the information to be collected; and (d) Ways to minimize the burden of the collection of information on those who are to respond, including through the use of appropriate automated, electronic, mechanical, or other technological collection techniques or other forms of information technology.

Comments may be sent by the Federal eRulemaking Portal: Go to www.regulations.gov and, in the “Search for dockets and documents on agency actions” box, type in the Docket No. located at the beginning of this notice and click the “Search” button. From the search results, click on or locate the document title and select the “Comment” button. Before inputting comments, commenters may review the “Commenter's Checklist” (optional). Insert comments under the “Comment” title, click “Browse” to attach files (if available), input email address and select “Submit Comment.” Information on using Regulations.gov, including instructions for accessing documents, submitting comments, and viewing the docket after the close of the comment period, is available through the site's “FAQ” link. All comments will be available for public inspection online at www.regulations.gov.

A federal agency may not conduct or sponsor, and a person is not required to respond to, nor shall a person be subject to a penalty for failure to comply with a collection of information subject to the requirements of the Paperwork Reduction Act unless that collection of information displays a currently valid OMB Control Number. Data furnished by the applicants will be used to determine eligibility for program benefits. Furnishing the data is voluntary; however, failure to provide data could result in program benefits being withheld or denied.

Title: 7 CFR 1901—Common Forms Package for Civil Rights Forms.

OMB Number: 0575-0201.

Type of Request: Extension of a Previously Approved Information Collection.

Abstract: The information collection under OMB Number 0575-0201 enables the Agencies to effectively monitor a recipient's compliance with the civil rights laws, and to determine whether or not service and benefits are being provided to beneficiaries on an equal opportunity basis. The Agencies are required to provide Federal financial assistance through its housing and community and business programs on an equal opportunity basis. The laws implemented in 7 CFR part 1901, subpart E, require the recipients of RD Federal financial assistance to collect various types of information, including information on participants in certain of these agencies' programs, by race, color, and national origin. The information collected and maintained by the recipients of certain programs in RD are used internally by the agency for monitoring compliance with the civil rights laws and regulations. This information is made available to USDA officials, officials of other Federal agencies, and to Congress for reporting purposes. Without the required information, RD and its recipients will lack the necessary documentation to demonstrate that their programs are being administered in a nondiscriminatory manner, and in full compliance with the civil rights laws. In addition, the Agency and their recipients would be vulnerable in lawsuits alleging discrimination in the affected programs of these agencies, and would be without appropriate data and documentation to defend themselves by demonstrating that services and benefits are being provided to beneficiaries on an equal opportunity basis.

Estimate of Burden: The Agencies are requesting approval for one respondent and a one-hour place holder for each of the three forms covered. The burden for each of the forms will be accounted for within the individual Rural Development program collection packages using the form(s).

Respondents: Recipients of RD Federal financial assistance, loan, and loan guarantee programs.

Estimated Number of Respondents: 1.

Estimated Number of Responses per Respondent per Form (Form 400-1, 400-4, and 400-6) in the Package: 1.

Copies of this information collection can be obtained from Pamela Bennett, Innovation Center—Regulations Management Division, at Email: pamela.bennett@usda.gov.

All responses to this notice will be summarized and included in the request for OMB approval. All comments will also become a matter of public record.

Joaquin Altoro,
Administrator, Rural Housing Service, USDA Rural Development.

[FR Doc. 2024-26639 Filed 11-14-24; 8:45 am]

BILLING CODE 3410-XV-P